DEPARTMENT OF THE INTERIOR

Fish and Wildlife Service

[FWS-R4-ES-2024-N058; FXES11140400000-256-FF04E00000]

Endangered Species; Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered species under the Endangered Species Act. We invite the public and local, State, Tribal, and Federal agencies to comment on these applications. Before issuing any of the requested permits, we will take into consideration any information that we receive during the public comment period.

DATES: We must receive written data or comments on the applications by January 15, 2025.

ADDRESSES:

Reviewing Documents: Submit requests for copies of applications and other information submitted with the applications to Karen Marlowe (see FOR FURTHER INFORMATION CONTACT). All requests and comments should specify the applicant's name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, via telephone at 404-679-7097 or via email at karen_marlowe@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a federal permit is issued that authorizes such take. The definition of “take” in the ESA includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES68773B-1 | Olivia Munzer; Raleigh, NC | Tricolored bat (Perimyotis subflavus) | North Carolina | Presence/probable absence surveys | Enter hibernacula | Renewal and amendment.
ES48579B-5 | Ecological Solutions, Inc.; Roswell, GA | Tricolored bat (Perimyotis subflavus) | Throughout the range of the species | Presence/probable absence surveys | Enter hibernacula, capture with mist nets or harp traps, handle, identify, band, radio tag, and release | Renewal and amendment.
ES059008-10 | CCR Environmental, Inc.; Atlanta, GA | Reptiles: Alligator snapping turtle (Macrochelys temminckii), Pearl River map turtle (Graptemys pearlensis), Suwannee alligator snapping turtle (Macrochelys suwanniensis); Fishes: Coal darter (Percina brevicauda), frecklebelly madtom (Noturus munitus); Mussels: Cumberland moccasinshell (Medionidus conradicus), oblong rocksnail (Leptoxis compacta), Tennessee clubshell (Pleurobema oviforme), and Tennessee pigtoe (Pleuronaia barnesiana) | Alabama, Florida, Georgia, Kentucky, Louisiana, Mississippi, and Tennessee | Presence/probable absence surveys | Capture, handle, and release | Amendment.
ES42291D-1 | Rebecca Johansen, Austin Peay State University; Clarksville, TN | Duskytail darter (Etheostoma percnurum) | Kentucky, Tennessee, and Virginia | Genetic analysis and genetic monitoring of populations | Capture, handle, take fin clips, and release | Renewal and amendment.
PER0007863-1 | Jana Day; Louisville, KY | Longsolid (Fusconaia subrotunda), round hickorynut (Obovaria subrotunda), and salamander mussel (Simpsonaias ambigua) | Kentucky | Presence/probable absence surveys | Capture, handle, identify, and release | Amendment.
ES30127D-2 | National Park Service; Asheville, NC | Alabama lampmussel (Lampsilis virescens), clubshell (Pleurobema clava), Cumberland bean (Villosa trabalis), Cumberland elktoe (Alasmidonta atropurpurea), Cumberlandian combshell (Epioblasma brevidens), dromedary pearlymussel (Dromus dromas), fluted kidneyshell (Ptychobranchus subtentus), littlewing pearlymussel (Pegias fabula), oyster mussel (Epioblasma capsaeformis), pink mucket (Lampsilis abrupta), spectaclecase (Cumberlandia monodonta), and tan riffleshell (Epioblasma florentina walkeri) | Kentucky and Tennessee | Presence/probable absence surveys | Capture, handle, identify, and release | Renewal.
PER12698268-0 | USGS Cooperative Research Unit; Clemson, SC | Black-capped petrel (Pterodroma hasitata) | North Carolina | Research on at-sea habitat use, movement patterns, and migration paths | Capture, handle, band, satellite tag, collect blood, and release | New.
ES52113D-1 | Devin Bingham; Irmo, SC | Gray bat (Myotis grisescens), Indiana bat (Myotis sodalis), northern long-eared bat (Myotis septentrionalis), and tricolored bat (Perimyotis subflavus) | Throughout the ranges of the species | Presence/probable absence surveys | Capture, handle, identify, band, radio tag, and release | Renewal and amendment.
PER12889073-0 | Forrest Collins; Gardendale, AL | Kemp's ridley sea turtle (Lepidochelys kempii), loggerhead sea turtle (Caretta caretta), and green sea turtle (Chelonia mydas) | Alabama | Research on effects of climate change on sea turtle population dynamics | Insert temperature and water data loggers within nests, excavate hatched nests, handle dead and alive hatchlings and eggshells | New.
ES38642A-4 | Avian Research and Conservation Institute, Gainesville, FL | Audubon's crested caracara (Polyborus plancus audubonii) and Everglade snail kite (Rostrhamus sociabilis plumbeus) | Florida | Scientific research | Capture; weigh; measure; band; collect feathers, blood, and egg albumen; attach solar-powered transmitters; and release | Renewal.
PER12962063-0 | Audubon Zoo; New Orleans, LA | Dusky gopher frog (Rana sevosa) | Louisiana and Mississippi | Disease pathogen research | Capture with dip nets, swab, and collect dead or diseased tadpoles | New.
ES21276D-1 | Christopher Carpenter; Winchester, KY | Gray bat (Myotis grisescens), Indiana bat (Myotis sodalis), northern long-eared bat (Myotis septentrionalis), tricolored bat (Perimyotis subflavus), and Virginia big-eared bat (Corynorhinus townsendii virginianus) | Alabama, Arkansas, Georgia, Illinois, Indiana, Kentucky, Maryland, Mississippi, Missouri, North Carolina, Ohio, Pennsylvania, South Carolina, Tennessee, Virginia, and West Virginia | Presence/probable absence surveys | Enter hibernacula or maternity roost caves, capture with mist nets and harp traps, handle, identify, band, radio tag, and release | Renewal and amendment.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

After the comment period closes, we will make decisions regarding permit issuance. If we issue permits to any of the applicants listed above in this notice, we will publish a subsequent notice in the Federal Register. You may locate the notice announcing the permit issuance by searching https://www.regulations.gov for the application number listed above in this document. Type in your search exactly as the application number appears above, with spaces and hyphens as necessary. For example, to find information about the potential issuance of Permit No. PER 1234567-0, you would go to https://www.regulations.gov and put “PER 1234567-0” in the Search field.

Authority

We publish this notice under section 10(c) of the Endangered Species Act of 1973, as amended (16 U.S.C. 1531 et seq.).

Christopher Cooley,
Deputy Assistant Regional Director, Ecological Services, Southeast Region.

[FR Doc. 2024-29568 Filed 12-13-24; 8:45 am]

BILLING CODE 4333-15-P